DEPARTMENT OF COMMERCE

National Oceanic and Atmospheric Administration

[I.D. 051101B]

Notice of Availability of Draft Stock Assessment Reports

AGENCY: National Marine Fisheries Service (NMFS), National Oceanic and Atmospheric Administration (NOAA), Commerce.

ACTION: Notice of availability; request for comments.

SUMMARY: NMFS revised the Alaska, Atlantic and Gulf of Mexico, and Pacific marine mammal stock assessment reports (SARs) in accordance with the Marine Mammal Protection Act (MMPA). Draft 2001 reports are available for public review and comment.

DATES: Comments must be received by September 5, 2001.

ADDRESSES: Send comments or requests for printed copies of the draft reports to: Chief, Marine Mammal Division, Office of Protected Resources, National Marine Fisheries Service, 1315 East-West Highway, Silver Spring, MD 20910-3226, Attn: Stock Assessments. Comments may also be sent via facsimile (fax) to 301-713-0376. NMFS will not accept comments submitted via e-mail or Internet. Copies of the regional reports may also be requested from Robyn Angliss, Alaska Fisheries Science Center (F/AKC), NMFS, 7600 Sand Point Way, NE BIN 15700, Seattle, WA 98115-0070 (Alaska); Janeen Quintal, Northeast Fisheries Science Center, 166 Water St., Woods Hole, MA 02543 (Northwest Atlantic); Steven Swartz, Southeast Fisheries Science Center, 75 Virginia Beach Dr., Miami, FL 33149 (Mid-Atlantic and Gulf of Mexico); and Tim Price, Southwest Regional Office (F/SWO3), NMFS, 501 West Ocean Boulevard, Long Beach, CA 90802-4213 (Pacific).

FOR FURTHER INFORMATION CONTACT: Emily Hanson, Office of Protected Resources, 301-713-2322, ext. 101, e-mail Emily.Hanson@noaa.gov; Robyn Angliss 206- 526-4032, e-mail Robyn.Angliss@noaa.gov, regarding Alaska regional stock assessments; Janeen Quintal, 508-495-2252, e-mail Janeen.Quintal@noaa.gov, regarding Northwest Atlantic regional stock assessments; Steven Swartz, 305-361-4487, e-mail Steven.Swartz@noaa.gov, regarding Mid-Atlantic and Gulf of Mexico regional stock assessments; or Tim Price, 562-980-4020, e-mail Tim.Price@noaa.gov, regarding Pacific regional stock assessments.

SUPPLEMENTARY INFORMATION: Section 117 of the MMPA (16 U.S.C. 1386) requires NMFS and the U.S. Fish and Wildlife Service (FWS) to prepare SARs for each stock of marine mammals that occurs in waters under the jurisdiction of the United States. The SARs contain information about the distribution and abundance of the stock, population growth rates and trends, estimates of annual human-caused mortality from all sources, descriptions of the fisheries with which the stock interacts, and the status of the stock.

The MMPA also requires NMFS and FWS to review the SARs annually for strategic stocks of marine mammals and at least every three years for stocks determined to be non-strategic. NMFS, in conjunction with the Alaska, Atlantic, and Pacific Scientific Review Groups, reviewed the status of marine mammal stocks as required and revised reports for which new information was available. Summary tables for all stocks of marine mammals in the three regions (Tables 1-3) indicate revisions to the SARs. NMFS solicits public comments on the draft Alaska, Atlantic and Gulf of Mexico, and Pacific reports.

Alaska Stocks

The Alaska SARs present revised stock assessments for 15 marine mammal stocks under NMFS’ jurisdiction. New information for all strategic stocks, Pacific white-sided dolphins, harbor porpoise, Dall’s porpoise, and gray whales were reviewed in late 2000, leading to the revision of the following SARs for 2001:

Alaska stock of bearded seals;

Cook Inlet stock of beluga whales;

Western Arctic stock of bowhead whales;

Northeast Pacific stock of fin whales;

Central and Western North Pacific stocks of humpback whales;

Eastern North Pacific and Northern Resident stocks of killer whales;

Alaska stock of minke whales;

North Pacific stock of Northern right whales;

Eastern North Pacific stock of northern fur seals;

Alaska stock of ribbon seals;

Alaska stock of ringed seals;

Alaska stock of spotted seals; and

Eastern and Western U.S. stocks of Steller sea lions. The new information on abundance and mortality did not change the status of any of the Alaska stocks from the 2000 SARs.

Atlantic and Gulf of Mexico Stocks

The Atlantic and Gulf of Mexico SARs present revised stock assessments for 17 marine mammal stocks under NMFS’ jurisdiction. The 2001 draft SARs for the Atlantic and Gulf of Mexico contain updated assessments for Atlantic strategic stocks and for Atlantic and Gulf of Mexico stocks for which significant new information was available. This review led to the revision of the following stock assessments for 2001:

Western North Atlantic (WNA) stock of harbor seals;

WNA stock of gray seals;

WNA stock of harp seals;

Gulf of Maine/Bay of Fundy stock of harbor porpoise;

WNA stock of Risso’s dolphins;

WNA stock of Atlantic white-sided dolphins;

WNA stock of common dolphins;

WNA stock of Cuvier’s beaked whales;

WNA stock of mesoplodon beaked whales;

WNA stock of long-finned pilot whales;

WNA stock of short-finned pilot whales;

North Atlantic stock of sperm whales;

WNA stock of North Atlantic right whales;

Gulf of Maine stock of humpback whales;

WNA stock of fin whales;

Canadian east-coast stock of minke whales; and

WNA stock of blue whales.

Most of the proposed changes incorporate new information into sections on population size and mortality estimates. Information on human interactions (fishery and ship strikes) between the right whale, humpback whale, fin whale, and minke whale stocks were reviewed and updated. The new information on abundance and mortality did not change the status of any of the Atlantic or Gulf of Mexico stocks from the 2000 SARs.

The draft 2001 SAR for the Gulf of Maine/Bay of Fundy population of harbor porpoise presents a revised abundance estimate of 89,700 animals, with a corresponding potential biological removal (PBR) level of 747 animals. The revised estimate is based on a 1999 survey that covered a larger area than covered by earlier surveys. Additionally, NMFS reported the estimated mortality and serious injury for harbor porpoise for 1999, the year the Harbor Porpoise Take Reduction Plan (HPTRP) was implemented. The estimated mean annual mortality in 1999 was 323 animals in U.S. fisheries, which is a significant reduction in mortality relative to levels before the HPTRP was implemented. Based on a comparison of the PBR resulting from the 1999 abundance data and the 1999 mortality and serious injury data, this stock no longer qualifies as a strategic stock. However, because the reported estimated mortality and serious injury reflects only one year of data, NMFS proposes to maintain this stock as strategic until additional data corroborate that serious injury and mortality continue to be below the PBR level.

Pacific Stocks

The Pacific SARs present revised stock assessments for 10 Pacific marine mammal stocks under NMFS’ jurisdiction. New estimates of abundance are available for 9 stocks, which are revised in the 2001 stock assessment reports:

California stock of harbor seals (Channel Islands only);

Hawaii stock of Hawaiian monk seals;

Northern and Central California stocks of harbor porpoise;

California coastal stock of bottlenose dolphins;

Eastern North Pacific southern resident stock of killer whales;

Eastern North Pacific stock of humpback whales;

California/Oregon/Washington (CA/OR/WA) stock of sperm whales; and,

CA/OR/WA stock of fin whales. The new information on abundance and mortality did not change the status of any of the Pacific stocks from the 2000 SARs.

New information on changes in the Hawaiian longline fishery is presented in the Hawaii false killer whale report. The stock of humpback whale previously referred to as the “CA/OR/WA - Mexico” stock has been renamed the “Eastern North Pacific” stock, reflecting increased knowledge of the whale’s range and movements. In the past, the PBR level for Hawaiian monk seals was listed as zero, assuming that the Endangered Species Act took precedence in the management of this stock. However, this statement was incorrect, and NMFS proposes to change the PBR level to 5 animals.

Electronic Access

Electronic copies of the SARs are accessible via the Internet at http://www.nmfs.noaa.gov/prot_res/PR2/Stock_ Assessment_Program/sars.html.

BILLING CODE 3510-22-S

Dated: May 31, 2001.
Wanda L. Cain,
Acting Deputy Director, Office of Protected Resources, National Marine Fisheries Service.

[FR Doc. 01-14406 Filed 6-6-01; 8:45 am]

BILLING CODE 3510-22-C